DEPARTMENT OF JUSTICE

[OMB Number 1103-0102]

Agency Information Collection Activities; Proposed eCollection eComments Requested; Extension With Change, of a Previously Approved Collection COPS Office Progress Report

AGENCY: Community Oriented Policing Services (COPS) Office, Department of Justice

ACTION: 60-day notice.

SUMMARY: The Department of Justice (DOJ), Community Oriented Policing Services (COPS) Office, will be submitting the following information collection request to the Office of Management and Budget (OMB) for review and approval in accordance with the Paperwork Reduction Act of 1995.

DATES: Comments are encouraged and will be accepted for 60 days until January 6, 2015.

FOR FURTHER INFORMATION CONTACT: If you have additional comments especially on the estimated public burden or associated response time, suggestions, or need a copy of the proposed information collection instrument with instructions or additional information, please contact Kimberly J. Brummett, Program Specialist, Community Oriented Policing Services (COPS) Office, 145 N Street NE., Washington, DC 20530 (phone: 202-353-9769).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Extension of a currently approved collection.

2. The Title of the Form/Collection: COPS Office Progress Report.

3. The agency form number, if any, and the applicable component of the Department sponsoring the collection: N/A. The applicable component within the Department of Justice is the Community Oriented Policing Services (COPS) Office.

4. Affected public who will be asked or required to respond, as well as a brief abstract: Under the Violent Crime and Control Act of 1994, the U.S. Department of Justice COPS Office would require the completion of the COPS Progress Report by recipients of COPS hiring and non-hiring grants. Grant recipients must complete this report in order to inform COPS of their activities with their awarded grant funding.

5. An estimate of the total number of respondents and the amount of time estimated for an average respondent to respond: An estimated 1,200 grantees will be required to submit an active progress report each quarter. The estimated range of burden for respondents is expected to be between 20 minutes to 25 minutes for each quarterly completion.

6. An estimate of the total public burden (in hours) associated with the collection: The estimated public burden associated with this collection is 2000 hours. It is estimated that respondents will take up to 25 minutes each quarter to complete the quarterly progress report. The burden hours for collecting respondent data sum to 2000 hours (1200 respondents × .4167 hours × 4 times annually = 2000 hours).

If additional information is required contact: Jerri Murray, Department Clearance Officer, United States Department of Justice, Justice Management Division, Policy and Planning Staff, Two Constitution Square, 145 N Street NE., 3E.405B, Washington, DC 20530.

Dated: November 4, 2014.
Jerri Murray,
Department Clearance Officer for PRA, U.S. Department of Justice.

[FR Doc. 2014-26503 Filed 11-6-14; 8:45 am]

BILLING CODE 4410-AT-P